DEPARTMENT OF AGRICULTURE

Submission for OMB Review; Comment Request

May 24, 2005.

The Department of Agriculture has submitted the following information collection requirement(s) to OMB for review and clearance under the Paperwork Reduction Act of 1995, Pub. L. 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: 9 CFR 50 & 77, Tuberculosis.

OMB Control Number: 0579-0084.

Summary of Collection: Title 21 U.S.C. authorizes the Secretary of Agriculture to prevent, control and eliminate domestic diseases such as tuberculosis, as well as to take actions to prevent and to manage exotic diseases such as hog cholera, African swine fever, and other foreign diseases. The Animal and Plant Health Inspection Service (APHIS) oversees the Cooperative State-Federal Bovine Tuberculosis Eradication Program to eliminate bovine tuberculosis, a serious disease of livestock. The disease also affects man through contacts with infected animals or their byproducts. APHIS works with State and other federal organizations to conduct epidemiologic investigations to locate bovine tuberculosis and provide a means of controlling it. Information is collected using a variety of forms to properly identify, test, and transport animals that are infected with or exposed to tuberculosis.

Need and Use of the Information: APHIS will collect information to search for infected herds, maintain identification of livestock, monitor deficiencies in identification of animals for movement, and monitor program deficiencies in suspicious and infected herds. Continued collection of this information is essential for program progress aimed at controlling and eradicating bovine tuberculosis.

Description of Respondents: Business or other for-profit; Farms; State, local or tribal government.

Number of Respondents: 6,897.

Frequency of Responses: Reporting: On occasion.

Total Burden Hours: 17,372.

Charlene Parker,
Departmental Information Collection Clearance Officer.

[FR Doc. 05-10737 Filed 5-27-05; 8:45 am]

BILLING CODE 3410-34-P